DEPARTMENT OF TRANSPORTATION

Pipeline and Hazardous Materials Safety Administration

49 CFR Parts 171, 173, 178, and 180

[Docket Number PHMSA-2010-0019 (HM-241)]

RIN 2137-AE58

Hazardous Materials: Adoption of ASME Code Section XII and the National Board Inspection Code

AGENCY: Pipeline and Hazardous Materials Safety Administration (PHMSA), DOT.

ACTION: Advance notice of proposed rulemaking; document availability and extension of comment period.

SUMMARY: PHMSA is notifying the public of the electronic availability of the American Society of Mechanical Engineers' (ASME) Boiler and Pressure Vessel Code, Section XII (2010 Edition) and the National Board of Boiler and Pressure Vessel Inspectors' National Board Inspection Code (2007 Edition). Further, PHMSA is extending the comment period for the ANPRM published on December 23, 2010 (ANPRM; 75 FR 80765). The ASME Boiler and Pressure Vessel Code, Section XII is now available on PHMSA's Web site for public review at: http://phmsa.dot.gov/hazmat. In addition, the National Board of Boiler and Pressure Vessel Inspectors have voluntarily posted, for public review, the relevant parts of the National Board Inspection Code at http://www.nationalboard.org.

DATES: The comment period for the ANPRM published on December 23, 2010, closing on March 23, 2011, is extended until May 23, 2011.

ADDRESSES: You may submit comments identified by the docket number (PHMSA-2010-0130) by any of the following methods:

• Federal eRulemaking Portal: Go to http://www.regulations.gov. Follow the online instructions for submitting comments.

• Fax: 1-202-493-2251.

• Mail: Docket Operations, U.S. Department of Transportation, West Building, Ground Floor, Room W12-140, Routing Symbol M-30, 1200 New Jersey Avenue, SE., Washington, DC 20590.

• Hand Delivery: To Docket Operations, Room W12-140 on the ground floor of the West Building, 1200 New Jersey Avenue, SE., Washington, DC 20590, between 9 a.m. and 5 p.m., Monday through Friday, except Federal Holidays.

Instructions: All submissions must include the agency name and docket number for this notice at the beginning of the comment. Note that all comments received will be posted without change to the docket management system, including any personal information provided.

Docket: For access to the dockets to read background documents or comments received, go to http://www.regulations.gov, or DOT's Docket Operations Office (see ADDRESSES).

FOR FURTHER INFORMATION CONTACT: Mr. Kurt Eichenlaub, Standards and Rulemaking Division, (202) 366-8553, Pipeline and Hazardous Materials Safety Administration.

Privacy Act: Anyone is able to search the electronic form of any written communications and comments received into any of our dockets by the name of the individual submitting the document (or signing the document, if submitted on behalf of an association, business, labor union, etc.). You may review DOT's complete Privacy Act Statement in the Federal Register published on April 11, 2000 (65 FR 19477) or you may visit http://www.regulations.gov.

SUPPLEMENTARY INFORMATION:

I. Background

On December 23, 2010, PHMSA published an advance notice of proposed rulemaking (ANPRM; 75 FR 80765) seeking public comment on the possible incorporation of the most recent edition of the ASME's Boiler and Pressure Vessel Code, Section XII for the design, construction, and certification of cargo tank motor vehicles, cryogenic portable tanks and multi-unit-tank car tanks (ton tanks) and the National Board of Boiler and Pressure Vessel Inspectors' (National Board) National Board Inspection Code as it applies to the continuing qualification and maintenance of ASME stamped cargo tank motor vehicles, portable tanks, and multi-unit-tank car tanks (ton tanks) constructed to standards in ASME Section VIII or ASME Section XII. PHMSA received comments regarding the availability of the consensus standards referenced in the ANPRM and requesting a comment period extension.

II. Availability of Consensus Standards

Several commenters (National Tank Truck Carriers (NTTC), C & R Fleet Services, and WRD, Inc.) requested that PHMSA make the consensus standards referenced in the ANPRM available to the public electronically. The commenters cited costs to purchase and review the copyrighted documents as barriers to informed public comment on issues presented in the ANPRM. PHMSA agrees. PHMSA understands the costs of purchasing copyrighted consensus standards can create an unnecessary burden on interested parties and potentially limit public participation in the rulemaking process. This was not PHMSA's intent.

In response to commenter requests, PHMSA has obtained permission from ASME to post an electronic version of the 2010 edition of the ASME Boiler and Pressure Vessel Code, Section XII (ASME Section XII) on PHMSA's website. The electronic version of ASME Section XII will be available for the duration of the comment period (through May 23, 2011) at the following URL: http://phmsa.dot.gov/hazmat. Further, in response to commenter requests, the National Board has voluntarily posted copies of the relevant sections (NBIC Part 2, Section 6, Supplement 6, “Continued Service and Inspection of DOT Transport Tanks,” and NBIC Part 3, Section 6, Supplement 6, “Repair, Alteration, and Modification of DOT Transport Tanks”) of the 2007 edition of the National Board Inspection Code for public review at www.nationalboard.org. Both documents are available electronically for review and comment, free of charge. However, PHMSA reminds the public that the documents are copyrighted and any reproduction of the documents without the permission of ASME or the National Board is prohibited.

III. Comment Period Extension

Several commenters to the December 23, 2011 ANPRM request a comment period extension (NTTC, C & R Fleet Services, Compressed Gas Association, and WRD, Inc.). Commenters cite difficulties in obtaining and reviewing copies of the referenced consensus standards, technical nature of the subject matter, and a wide range of potential burdens as reasons PHMSA should provide commenters with additional time to review the consensus standards and generate informed comment submissions to the docket. PHMSA agrees. Therefore, the comment period for the December 23, 2010 ANPRM is extended from March 23, 2011 until May 23, 2011.

IV. Conclusion

PHMSA believes the electronic availability of the referenced consensus standards and the extension of the comment period will provide commenters with sufficient time to review the consensus standards and generate informed comments on the December 23, 2010 ANPRM.

Issued in Washington, DC, on February 22, 2011 under authority delegated in 49 CFR part 106.
Billy C. Hines, Jr.,
Acting Associate Administrator for Hazardous Materials Safety.

[FR Doc. 2011-4543 Filed 2-28-11; 8:45 am]

BILLING CODE 4910-60-P